DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 10, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov. Each mode of transportation for which a particular special permit is requested is indicated by a number in the “Nature of Application” portion of the table below as follows: 1—Motor vehicle, 2—Rail freight, 3—Cargo vessel, 4—Cargo aircraft only, 5—Passenger-carrying aircraft.

This notice of receipt of applications for special permit is published in accordance with part 107 of the Federal hazardous materials transportation law (49 U.S.C. 5117(b); 49 CFR 1.53(b)).

Issued in Washington, DC, on December 05, 2019.
Donald P. Burger,
Chief, General Approvals and Permits Branch.

Application No. | Applicant | Regulation(s) affected | Nature of the special permits thereof
SPECIAL PERMITS DATA—GRANTED
14661-M | Fiba Technologies, Inc | 180.209(a), 180.209(b)(1)(i), 180.209(b)(1)(v) | To modify the special permit to add an additional hazmat and to incorporate non-DOT specification cylinders made under special permit into the permit.
15238-M | Reeder Flying Service, Inc | 172.101(j), 172.200, 172.204(c)(3), 172.301(c), 173.27(b)(2), 175.30(a)(1), 175.75 | To modify the special permit to authorize additional Class 9 hazmat to be transported.
15552-M | Poly-coat Systems, Inc | 107.503(b), 107.503(c), 173.241, 173.242, 173.243, 172.203(a) | To modify the special permit to remove the requirement that the special permit number be shown on a shipping paper.
15985-M | Space Exploration Technologies Corp | 172.300, 172.400 | To modify the special permit to increase the allowable state of charge of the batteries.
16563-M | Call2Recycle, Inc | 172.200, 172.300, 172.400, 172.600, 172.700(a), 173.185(f) | To modify the special permit to authorize an additional packaging for transporting the authorized hazmat.
20584-M | Battery Solutions, Llc | 173.185(f)(3), 173.185(c)(1)(iii), 173.185(c)(1)(iv), 173.185(c)(1)(v), 173.185(c)(3), 173.185(f) | To modify the special permit to authorize the use of thermally insulating fire suppressant material in a sufficient quantity and manner that will suppress lithium battery fires, heat and smoke and absorbs the smoke, gases and flammable vapors and electrolytes during a thermal runaway incident.
20928-N | Catalytic Innovations, Llc | 172.102(c), 172.200, 172.300, 172.400, 173.159a(c)(2), 173.185(c)(1)(iii), 173.185(c)(1)(iv), 173.185(c)(1)(v), 173.185(c)(3) | To authorizes the manufacture, marking, sale and use of non-DOT specification fiberboard boxes for the transportation in commerce of certain batteries without shipping papers, marking of the proper shipping name and identification number or labeling, when transported for recycling or disposal.
20930-N | EMD Performance Materials Corp | 180.209 | To authorize the transportation in commerce of certain DOT 4B cylinders used for certain liquids and solids that are retested every 10 years instead of 5.
20938-N | Worldvu Development, LLC | 172.101(j), 173.301(f), 173.302a(a)(1), 173.304a(a)(1) | To authorize the transportation in commerce of spacecraft containing hazardous materials in non-specification packaging.
20940-N | Orbital Sciences Corporation | 172.101(j), 173.185(a) | To authorize the transportation in commerce of low production runs of large lithium ion batteries that have not completed the test requirements in accordance with Sub-Section 38.3 of the United Nations (UN) Manual of Tests and Criteria and that exceed the 35 kg limit for transportation by cargo aircraft.
20941-N | Air Sea Containers, Inc | 173.185(b)(5) | To authorize the transportation in commerce of lithium ion batteries in non-specification packaging.
20948-N | Kocsis Technologies, Inc | 173.302(a) | To authorize the transportation in commerce of certain steel hydraulic accumulators containing compressed nitrogen, a Division 2.2 material.
20959-N | Department of Defense US Army Military Surface Deployment & Distribution Command | 173.185(a) | To authorize the transportation of prototype and low production lithium cells and batteries in non-specification packaging (spacecraft).

[FR Doc. 2019-26650 Filed 12-10-19; 8:45 am]

BILLING CODE 4909-60-P